DEPARTMENT OF HOMELAND SECURITY

Federal Emergency Management Agency

44 CFR Part 67

[Docket ID FEMA-2010-0003; Internal Agency Docket No. FEMA-B-1149]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 31, 2011.

ADDRESSES: The corresponding preliminary Flood Insurance Rate Map (FIRM) for the proposed BFEs for each community is available for inspection at the community's map repository. The respective addresses are listed in the table below.

You may submit comments, identified by Docket No. FEMA-B-1149, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD + Elevation in feet (NAVD) # Depth in feet above ground ‸ Elevation in meters (MSL): Existing | * Elevation in feet (NGVD + Elevation in feet (NAVD) # Depth in feet above ground ‸ Elevation in meters (MSL): Modified
Unincorporated Areas of Butte-Silver Bow County, Montana
Montana | Unincorporated Areas of Butte-Silver Bow County | Basin Creek | Approximately 1,000 feet upstream of I-90 | +5468 | +5469
|  |  | Approximately 40 feet downstream of Mormon Church Road | +5495 | +5494
Montana | Unincorporated Areas of Butte-Silver Bow County | Sand Creek | Approximately 90 feet downstream of Evans Avenue | +5460 | +5456
|  |  | Approximately 50 feet upstream of Chicago, Milwaukee, St. Paul and Pacific Railroad | +5545 | +5547
Montana | Unincorporated Areas of Butte-Silver Bow County | Sand Creek Diversion | Approximately 500 feet upstream of Elizabeth Warren Avenue | None | +5484
|  |  | Approximately 100 feet downstream of Harrison Avenue | None | +5514
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Butte-Silver Bow County
Maps are available for inspection at 155 West Granite Street, Room 108, Butte, MT 59701.
City of Sioux Falls, South Dakota
South Dakota | City of Sioux Falls | Big Sioux River | Approximately 0.5 mile downstream of Cliff Avenue, landward of north levee | None | +1320
|  |  | Approximately 1,800 feet upstream of Cliff Avenue, landward of north levee | None | +1324
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Sioux Falls
Maps are available for inspection at 224 West 9th Street, Sioux Falls, SD 57117.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Jackson County, Arkansas, and Incorporated Areas
Cache River | Approximately 1.06 mile downstream of the confluence with Browns Creek Ditch | None | +223 | Unincorporated Areas of Jackson County.
| Approximately 0.57 mile downstream of the confluence with Browns Creek Ditch | None | +224
Swan Pond Ditch | Just upstream of the confluence with Tuckerman Ditch | None | +227 | Unincorporated Areas of Jackson County.
| Just upstream of State Highway 37 | None | +227
Tuckerman Ditch | Just upstream of the confluence with Village Creek | None | +236 | City of Tuckerman, Unincorporated Areas of Jackson County.
| Approximately 0.57 mile downstream of County Road 620 | None | +242
Village Creek | Just upstream of the confluence with the White River | None | +227 | Unincorporated Areas of Jackson County.
| Just downstream of State Highway 37 | None | +242
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Tuckerman
Maps are available for inspection at 200 West Main Street, Tuckerman, AR 72473.
Unincorporated Areas of Jackson County
Maps are available for inspection at the Jackson County Courthouse, 208 Main Street, Newport, AR 72112.
Hernando County, Florida, and Incorporated Areas
Blue Sink Watershed | Approximately 700 feet downstream of Duck Pond Road (at Junction 1NP0170) | None | +41 | City of Brooksville, Unincorporated Areas of Hernando County.
| Approximately 100 feet upstream of Chinsegut Hill Road (at Junction 1NE0500) | None | +236
Bystre Lake Watershed | Approximately 280 feet downstream of Weatherly Road (at Junction 2NG1980) | None | +56 | City of Brooksville, Unincorporated Areas of Hernando County.
| Approximately 2,800 feet upstream of Griffin Road (at Junction 2NC1010) | None | +256
Centralia Watershed | Approximately 1 mile downstream of the intersection of U.S. Route 19 and Knuckey Road (at Junction 3NJ1550) | None | +8 | Unincorporated Areas of Hernando County.
| Approximately 1,200 feet upstream of Barrientos Lane (at Junction 3NR2100) | None | +186
Chassahowitzka River Watershed | Approximately 850 feet downstream of the intersection U.S. Route 19 and Nicasio Jay Avenue (at Junction 4NK1450) | None | +7 | Unincorporated Areas of Hernando County.
| Approximately 2,000 feet upstream of the intersection of Citrus Road and Thompson Loop (at Junction 4NC0900) | None | +158
Croom Watershed | Approximately 1,000 feet downstream of Malvern Street (at Junction 6NA0266) | None | +42 | City of Brooksville, Unincorporated Areas of Hernando County.
| Approximately 400 feet upstream of La Ruth Road (at Junction 6NC0405) | None | +201
Eastern Hernando Withlacoochee River Watershed | Approximately 2,600 feet downstream of the intersection of Nobleton Croom Road and Trail 9 (at Junction 7NB1530) | None | +41 | Unincorporated Areas of Hernando County.
| Approximately 2,000 feet upstream of the intersection of Poe County Lane and Power Line Road (at Junction 7NH0398) | None | +152
Little Withlacoochee River Watershed | Approximately 2,300 feet downstream of End of Nations Road, at the confluence of the Withlacoochee and Little Withlacoochee Rivers (at Junction 8NE0020) | None | +56 | Unincorporated Areas of Hernando County.
| Approximately 600 feet upstream of Carter Pond Road (at Junction 8NA9044) | None | +90
Lizzie Hart Sink Watershed | Approximately 50 feet downstream of the intersection of Brittle Road and Forest 24 Road (at Junction 9NF0040) | None | +43 | Unincorporated Areas of Hernando County.
| Approximately 5,000 feet upstream of the intersection of Jones Road and Snow Hill Road (at Junction 9NC0330) | None | +164
McKethan Watershed | Approximately 3,000 feet downstream of U.S. Route 41 and the Citrus County boundary (at Junction 10NF1000) | None | +38 | Unincorporated Areas of Hernando County.
| Approximately 850 feet upstream of the intersection of Chinsegut Hill Road and Pilots Path (at Junction 10NC0012) | None | +233
Oman Quarry Watershed | Approximately 220 feet downstream of Windjammer Drive (at Junction 11NB0070) | None | +9 | Unincorporated Areas of Hernando County.
| Approximately 50 feet upstream of the intersection of Gerbert Street and William Street (at Junction 11NI0080) | None | +37
Powell Watershed | Approximately 750 feet downstream of State Prison Drive (at Junction 13NB0095) | +69 | +62 | City of Brooksville, Unincorporated Areas of Hernando County.
| Approximately 2,000 feet upstream of the intersection of Powell Road and Mars Road (at Junction 13NK0240) | None | +134
Spring Hill Lakes Watershed | Approximately 4,500 feet downstream of intersection at Suzanne Drive and Commercial Way (at Junction 14NAA0080) | None | +10 | Town of Weeki Wachee, Unincorporated Areas of Hernando County.
| Approximately 50 feet upstream of the intersection of Palmgren Lane and Mariner Boulevard (at Junction 14NG0425) | None | +69
Toachodka Watershed | Approximately 600 feet downstream of the intersection of Hickory Hill Road and Lockhart Road (at Junction 16NE0510) | None | +64 | Unincorporated Areas of Hernando County.
| Approximately 2,100 feet upstream of the intersection of Spring Hill Highway and Rosecrans Street (at Junction 16NA2680) | None | +225
Tooke Watershed | Approximately 1,600 feet downstream of Porpoise Street (at Junction 17NK1000) | None | +1 | Town of Weeki Wachee, Unincorporated Areas of Hernando County.
| Approximately 100 feet upstream of the intersection of Star Road and Madison Street (at Junction 17NB5230) | None | +107
Weeki Wachee Prairie Watershed | Approximately 400 feet downstream of the intersection of Azora Road and Watt Avenue (at Junction 18NA2170) | None | +19 | Unincorporated Areas of Hernando County.
| Approximately 100 feet upstream of the intersection of Spring Hill Drive and Whitewood Avenue (at Junction 18NB1065) | None | +76
Willow Sink Watershed | Approximately 100 feet downstream of the intersection of Lynn Road and India Drive (at Junction 19NG2360) | None | +19 | Unincorporated Areas of Hernando County.
| Approximately 100 feet upstream of the intersection of Star Road and Jayson Road (at Junction 19WISCON1) | None | +101
Wiscon Watershed | Approximately 380 feet downstream of the intersection of Elwood Road and Tacoma Avenue (at Junction 20NS0200) | None | +25 | Unincorporated Areas of Hernando County.
| Approximately 800 feet upstream of Dusty Pine Trail (at Junction 20NK0034) | None | +153
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Brooksville
Maps are available for inspection at 201 Howell Avenue, Brooksville, FL 34601.
Town of Weeki Wachee
Maps are available for inspection at 6131 Commercial Way, Weeki Wachee, FL 34606.
Unincorporated Areas of Hernando County
Maps are available for inspection at 20 North Main Street, Brooksville, FL 34601.

(Catalog of Federal Domestic Assistance No. 97.022, “Flood Insurance.”)

Dated: October 15, 2010.
Sandra K. Knight,
Deputy Federal Insurance and Mitigation Administrator, Mitigation, Department of Homeland Security, Federal Emergency Management Agency.

[FR Doc. 2010-27585 Filed 11-1-10; 8:45 am]

BILLING CODE 9110-12-P